DEPARTMENT OF HOMELAND SECURITY

Federal Emergency Management Agency

[Docket ID FEMA-2014-0002]

Changes in Flood Hazard Determinations

AGENCY: Federal Emergency Management Agency, DHS.

ACTION: Final Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: November 24, 2014.
Roy E. Wright,
Deputy Associate Administrator for Mitigation, Department of Homeland Security, Federal Emergency Management Agency.

State and county | Location and case No. | Chief executive officer of community | Community map repository | Effective date of modification | Community No.
Alabama:
Madison (FEMA Docket No.: B-1423) | City of Huntsville (14-04-3285P) | The Honorable Tommy Battle, Mayor, City of Huntsville, P.O. Box 308, Huntsville, AL 35801 | Engineering Department, 320 Fountain Circle, Huntsville, AL 35804 | Oct. 3, 2014 | 010153
Arizona:
Maricopa (FEMA Docket No.: B-1435) | City of Scottsdale (14-09-0808P) | The Honorable Jim Lane, Mayor, City of Scottsdale, 3939 North Drinkwater Boulevard, Scottsdale, AZ 85251 | City Hall, 3939 North Drinkwater Boulevard, Scottsdale, AZ 85251 | Oct. 17, 2014 | 045012
Maricopa (FEMA Docket No.: B-1435) | Town of Queen Creek (14-09-1090P) | The Honorable Gail Barney, Mayor, Town of Queen Creek, 22350 South Ellsworth Road, Queen Creek, AZ 85142 | Town Hall, 22350 South Ellsworth Road, Queen Creek, AZ 85142 | Oct. 24, 2014 | 040132
Maricopa (FEMA Docket No.: B-1435) | Unincorporated areas of Maricopa County (14-09-1090P) | The Honorable Denny Barney, Chairman, Maricopa County Board of Supervisors, 301 West Jefferson, 10th Floor, Phoenix, AZ 85003 | Maricopa County Flood Control District, 2801 West Durango Street, Phoenix, AZ 85009 | Oct. 24, 2014 | 040037
Pima (FEMA Docket No.: B-1428) | City of Tucson (13-09-3317P) | The Honorable Jonathan Rothschild, Mayor, City of Tucson, 255 West Alameda, 10th Floor, Tucson, AZ 85701 | Planning and Development Services Department, 201 North Stone, 1st Floor, Tucson, AZ 85701 | Sept. 29, 2014 | 040076
Pima (FEMA Docket No.: B-1428) | Town of Marana (14-09-1828P) | The Honorable Ed Honea, Mayor, Town of Marana, 11555 West Civic Center Drive, Marana, AZ 85653. | Engineering Department, 11555 West Civic Center Drive, Marana, AZ 85653. | Sept. 29, 2014 | 040118
California:
Alameda (FEMA Docket No.: B-1428) | City of Fremont (13-09-2956P) | The Honorable Bill Harrison, Mayor, City of Fremont, 3300 Capitol Avenue, Fremont, CA 94538 | Development Services Center, 39550 Liberty Street, Fremont, CA 94538 | Oct. 13, 2014 | 065028
Kern (FEMA Docket No.: B-1428) | City of Delano (14-09-2143P) | The Honorable Grace Vallejo, Mayor, City of Delano, P.O. Box 3010, Delano, CA 93216 | Community Development Department, 1015 11th Avenue, Delano, CA 93216 | Sept. 26, 2014 | 060078
Orange (FEMA Docket No.: B-1435) | City of Newport Beach (14-09-2874P) | The Honorable Rush N. Hill, II, Mayor, City of Newport Beach, 100 Civic Center Drive, Newport Beach, CA 92660 | City Hall, 100 Civic Center Drive, Newport Beach, CA 92660 | Oct. 30, 2014 | 060227
Riverside (FEMA Docket No.: B-1442) | Unincorporated areas of Riverside County (14-09-1024P) | The Honorable Jeff Stone, Chairman, Riverside County Board of Supervisors, 4080 Lemon Street, 5th Floor, Riverside, CA 92501 | Riverside County Flood Control and Water Conservation District, 1995 Market Street, Riverside, CA 92501 | Oct. 20, 2014 | 060245
San Diego (FEMA Docket No.: B-1435) | Unincorporated areas of San Diego County (14-09-0364P) | The Honorable Dianne Jacob, Chair, San Diego County Board of Supervisors, 1600 Pacific Highway, San Diego, CA 92101 | San Diego County Department of Public Works, Flood Control Division, 5510 Overland Avenue, Suite 410, San Diego, CA 92123 | Oct. 16, 2014 | 060284
Colorado:
Boulder (FEMA Docket No.: B-1435) | City of Longmont (14-08-0987P) | The Honorable Dennis L. Coombs, Mayor, City of Longmont, 350 Kimbark Street, Longmont, CO 80501 | Service Center, 1100 South Sherman Street, Longmont, CO 80501 | Oct. 22, 2014 | 080027
El Paso (FEMA Docket No.: B-1428) | Unincorporated areas of El Paso County (14-08-0489P) | The Honorable Dennis Hisey, Chairman, El Paso County Board of Commissioners, 200 South Cascade Avenue, Suite 100, Colorado Springs, CO 80903 | El Paso County Floodplain Administrator, 2880 International Circle, Colorado Springs, CO 80910 | Oct. 14, 2014 | 080059
Jefferson (FEMA Docket No.: B-1435) | City of Arvada (14-08-0099P) | The Honorable Marc Williams, Mayor, City of Arvada, P.O. Box 8101, Arvada, CO 80001 | City Hall, 8101 Ralston Road, Arvada, CO 80001 | Oct. 17, 2014 | 085072
Florida:
Charlotte (FEMA Docket No.: B-1435) | Unincorporated areas of Charlotte County (14-04-2502P) | The Honorable Ken Doherty, Chairman, Charlotte County Board of Commissioners, 18500 Murdock Circle, Port Charlotte, FL 33948 | Charlotte County Community Development Department, 18500 Murdock Circle, Port Charlotte, FL 33948 | Oct. 16, 2014 | 120061
Duval (FEMA Docket No.: B-1435) | City of Jacksonville (14-04-2078P) | The Honorable Alvin Brown, Mayor, City of Jacksonville, 117 West Duval Street, Jacksonville, FL 32202 | City Hall, 117 West Duval Street, Jacksonville, FL 32202 | Oct. 27, 2014 | 120077
Manatee and Sarasota (FEMA Docket No.: B-1435) | Town of Longboat Key (14-04-3983P) | The Honorable Jim Brown, Mayor, Town of Longboat Key, 501 Bay Isles Road, Longboat Key, FL 34228 | Planning, Zoning, and Building Department, 501 Bay Isles Road, Longboat Key, FL 34228 | Oct. 30, 2014 | 125126
Marion (FEMA Docket No.: B-1428) | Unincorporated areas of Marion County (14-04-2852P) | The Honorable Carl Zalak, III, Chairman, Marion County Board of Commissioners, 601 Southeast 25th Avenue, Ocala, FL 34471 | Transportation Department, 412 Southeast 25th Avenue, Ocala, FL 34471 | Oct. 13, 2014 | 120160
Monroe (FEMA Docket No.: B-1435) | Unincorporated areas of Monroe County (14-04-4077P) | The Honorable Sylvia Murphy, Mayor, Monroe County, 1100 Simonton Street, Key West, FL 33040 | Monroe County Planning and Environmental Resources Department, 2798 Overseas Highway, Marathon, FL 33050 | Oct. 14, 2014 | 125129
Orange (FEMA Docket No.: B-1435) | Unincorporated areas of Orange County (14-04-0780P) | The Honorable Teresa Jacobs, Mayor, Orange County, 201 South Rosalind Avenue, 5th Floor, Orlando, FL 32801 | Orange County Stormwater Management Department, 4200 South John Young Parkway, Orlando, FL 32839 | Oct. 17, 2014 | 120179
Osceola (FEMA Docket No.: B-1435) | Unincorporated areas of Osceola County (14-04-0490P) | The Honorable Fred Hawkins, Jr., Chairman, Osceola County Board of Commissioners, 1 Courthouse Square, Suite 4700, Kissimmee, FL 34741 | Osceola County Stormwater Section, 1 Courthouse Square, Suite 1400, Kissimmee, FL 34741 | Oct. 17, 2014 | 120189
Polk (FEMA Docket No.: B-1435) | Unincorporated areas of Polk County (14-04-2776P) | The Honorable R. Todd Dantzler, Chairman, Polk County Board of Commissioners, P.O. Box 9005, Bartow, FL 33831 | Polk County Engineering Division, 330 West Church Street, Bartow, FL 33831 | Oct. 16, 2014 | 120261
Sarasota (FEMA Docket No.: B-1435) | City of Sarasota (14-04-3830P) | The Honorable Willie Charles Shaw, Mayor, City of Sarasota, 1565 1st Street, Sarasota, FL 34236 | City Hall, 1565 1st Street, Sarasota, FL 34236 | Oct. 22, 2014 | 125150
Sarasota (FEMA Docket No.: B-1435) | Unincorporated areas of Sarasota County (14-04-3759P) | The Honorable Charles D. Hines, Chairman, Sarasota County Commission, 1660 Ringling Boulevard, Sarasota, FL 34236 | Sarasota County Stormwater Management Department, 1001 Sarasota Center Boulevard, Sarasota, FL 34240 | Oct. 15, 2014 | 125144
Walton (FEMA Docket No.: B-1428) | City of Freeport (14-04-1147P) | The Honorable Russ Barley, Mayor, City of Freeport, P.O. Box 339, Freeport, FL 32439 | City Hall, 112 Highway 20 West, Freeport, FL 32439 | Oct. 10, 2014 | 120319
Georgia:
Columbia (FEMA Docket No.: B-1435) | Unincorporated areas of Columbia County (13-04-8279P) | The Honorable Ron C. Cross, Chairman, Columbia County Board of Commissioners, 630 Ronald Regan Drive, Building B, Evans, GA 30809 | Columbia County Engineering Division, 630 Ronald Regan Drive, Building A, Evans, GA 30809 | Oct. 16, 2014 | 130059
Gwinnett (FEMA Docket No.: B-1435) | City of Lilburn (13-04-4606P) | The Honorable Johnny D. Crist, Mayor, City of Lilburn, 76 Main Street, Lilburn, GA 30047 | City Hall, 76 Main Street, Lilburn, GA 30047 | Oct. 10, 2014 | 130100
Richmond (FEMA Docket No.: B-1435) | Augusta-Richmond County (13-04-2899P) | The Honorable Deke S. Copenhaver, Mayor, Augusta-Richmond County, 75 Conifer Circle, Augusta, GA 30909 | Augusta-Richmond County Planning and Zoning Department, 525 Telfair Street, Augusta, GA 30901 | Oct. 17, 2014 | 130158
Kentucky:
Jefferson (FEMA Docket No.: B-1428) | Louisville-Jefferson County Metro Government (14-04-0120P) | The Honorable Greg Fischer, Mayor, Louisville-Jefferson County Metro Government, 527 West Jefferson Street, Louisville, KY 40202 | Metropolitan Sewer District, 700 West Liberty Street, Louisville, KY 40203 | Sept. 29, 2014 | 210120
Mississippi:
Oktibbeha (FEMA Docket No.: B-1428) | City of Starkville (12-04-7758P) | The Honorable Parker Wiseman, Mayor, City of Starkville, 101 East Lampkin Street, Starkville, MS 39759 | City Hall, 101 East Lampkin Street, Starkville, MS 39759 | Oct. 6, 2014 | 280124
Oktibbeha (FEMA Docket No.: B-1428) | Unincorporated areas of Oktibbeha County (12-04-7758P) | The Honorable Orlando Trainer, President, Oktibbeha County Board of Supervisors, 101 East Lampkin Street, Starkville, MS 39759 | Oktibbeha County Courthouse, 101 East Lampkin Street, Starkville, MS 39759 | Oct. 6, 2014 | 280277
Nevada:
Clark (FEMA Docket No.: B-1435) | City of Henderson (14-09-0094P) | The Honorable Andy Hafen, Mayor, City of Henderson, P.O. Box 95050, Henderson, NV 89009 | Public Works Department, 240 Water Street, Henderson, NV 89015 | Oct. 2, 2014 | 320005
Washoe (FEMA Docket No.: B-1435) | Unincorporated areas of Washoe County (14-09-1338P) | The Honorable David Humke, Chairman, Washoe County Board of Commissioners, P.O. Box 11130, Reno, NV 89512 | Washoe County Public Works Department, 1001 East 9th Street, Reno, NV 89512 | Oct. 20, 2014 | 320019
New York:
Westchester (FEMA Docket No.: B-1421) | Village of Mamaroneck (14-02-0594P) | The Honorable Norman S. Rosenblum, Mayor, Village of Mamaroneck, 123 Mamaroneck Avenue, Mamaroneck, NY 10543 | Building Inspector's Office, 123 Mamaroneck Avenue, Mamaroneck, NY 10543 | Sept. 26, 2014 | 360916
North Carolina:
Buncombe (FEMA Docket No.: B-1423) | City of Asheville (14-04-3620P) | The Honorable Esther E. Manheimer, Mayor, City of Asheville, P.O. Box 7148, Asheville, NC 28802 | Public Works Department, 161 South Charlotte Street, Asheville, NC 28802 | Sept. 2, 2014 | 370032
Franklin (FEMA Docket No.: B-1435) | Unincorporated areas of Franklin County (14-04-1007P) | Ms. Angela L. Harris, Franklin County Manager, 113 Market Street, Louisburg, NC 27549 | Franklin County Planning and Inspections Office, 215 East Nash Street, Louisburg, NC 27549 | Oct. 17, 2014 | 370377
North Dakota:
Bowman (FEMA Docket No.: B-1435) | City of Bowman (14-08-0180P) | The Honorable Lyn James, President, City of Bowman Commission, P.O. Box 12, Bowman, ND 58623 | Zoning Administrator's Office, 104 1st Street, NW., Bowman, ND 58623 | Oct. 6, 2014 | 380012
South Carolina:
Aiken (FEMA Docket No.: B-1435) | City of North Augusta (13-04-2899P) | The Honorable Lark W. Jones, Mayor, City of North Augusta, 100 Georgia Avenue, North Augusta, SC 29841 | City Hall, 100 Georgia Avenue, North Augusta, SC 29841 | Oct. 17, 2014 | 450007
Aiken (FEMA Docket No.: B-1435) | Unincorporated areas of Aiken County (13-04-2899P) | The Honorable Ronnie Young, Chairman, Aiken County Council, 220 Deerwood Drive, North Augusta, SC 29841 | Aiken County Planning and Zoning Department, 1680 Richmond Avenue West, North Augusta, SC 29801 | Oct. 17, 2014 | 450002
Richland (FEMA Docket No.: B-1435) | City of Columbia (13-04-7561P) | The Honorable Steve Benjamin, Mayor, City of Columbia, P.O. Box 147, Columbia, SC 29217 | Department of Engineering, P.O. Box 147, Columbia, SC 29217 | Oct. 27, 2014 | 450172
Richland (FEMA Docket No.: B-1435) | Unincorporated areas of Richland County (13-04-7561P) | The Honorable Norman Jackson, Chairman, Richland County Council, P.O. Box 90617, Columbia, SC 29209 | Richland County Courthouse, 1701 Main Street, Columbia, SC 29202 | Oct. 27, 2014 | 450170

[FR Doc. 2014-29136 Filed 12-10-14; 8:45 am]

BILLING CODE 9110-12-P